DEPARTMENT OF ENERGY

Los Alamos Site Office; National Nuclear Security Administration; Notice of Floodplain Involvement for the Fire Road Project at Los Alamos National Laboratory, Los Alamos, NM

AGENCY: National Nuclear Security Administration, Los Alamos Site Office, DOE.

ACTION: Notice of floodplain involvement.

SUMMARY: The National Nuclear Security Administration (NNSA), Los Alamos Site Office of the Department of Energy (DOE) plans to improve existing firebreaks and access roads into remote forested areas at Los Alamos National Laboratory (LANL) for the purpose of providing reliable access for fire fighting crews. Improvements will focus on changes to drainage crossings and improved roadbeds within floodplain areas. Improvements would be minor and would mostly consist of installing culverts and stabilizing roadbeds. These roads are limited use roads that are restricted to official access only. In accordance with 10 CFR part 1022, NNSA has prepared a floodplain/wetland assessment and will perform this proposed action in a manner so as to avoid or minimize potential harm to or within the affected floodplain.

DATES: Comments are due to the address below no later than March 14, 2003.

ADDRESSES: Written comments should be addressed to: Elizabeth Withers, Department of Energy, National Nuclear Security Administration, Los Alamos Site Office, 528 35th Street, Los Alamos, NM 87544, or submit them to the Mail Room at the above address between the hours of 8 a.m. and 4:30 p.m., Monday through Friday. Written comments may also be sent electronically to: ewithers@doeal.gov or by facsimile to (505) 667-9998.

FOR FURTHER INFORMATION CONTACT: Everett Trollinger, Department of Energy, National Nuclear Security Administration, Los Alamos Site Office, 528 35th Street, Los Alamos, NM 87544. Telephone (505) 667-0281, facsimile (505) 667-9998.

For Further Information on General DOE Floodplain Environmental Review Requirements, contact: Carol M. Borgstrom, Director, Office of NEPA Policy and Compliance, EH-42, Department of Energy, 1000 Independence Avenue, SW., Washington DC 20585-0119. Telephone (202) 586-4600 or (800) 472-2756, facsimile (202) 586-7031.

SUPPLEMENTARY INFORMATION: After the May 2000 Cerro Grande Fire event, NNSA developed a Wildfire Hazard Reduction Program for LANL. This program includes the improvement of firebreaks and the improvement of access to remote portions of LANL through the upgrade and maintenance of the existing fire road network. There are about 12 firebreaks and 40 fire roads at LANL that will be improved as part of this project. These improvements will require: clearing each road of hazard trees (mostly these are dead or dying trees); grading of the roads and realignment of sharp curves; cut and fill of road areas where needed to accommodate heavy fire fighting equipment.

Culverts will be installed where necessary based on road substrate, and rock gabions and other erosion control features may also be installed. Disturbed soil will be revegetated after work is completed. Firebreak and road improvements will commence in fiscal year 2003 and be completed over the next 9 months.

In accordance with DOE regulations for compliance with floodplain and wetlands environmental review requirements (10 CFR part 1022), NNSA has prepared a floodplain/wetland assessment for this action, which is available by contacting Elizabeth Withers at the previously identified addresses, phone and facsimile numbers. The floodplain/wetland assessment is available for review at the DOE Reading Room at the Los Alamos Outreach Center, 1619 Central Avenue, Los Alamos, NM 878544; and the DOE Reading Room at the Zimmerman Library, University of New Mexico, Albuquerque, NM 87131. The NNSA will publish a floodplain statement of findings for this project in the Federal Register no sooner than March 14, 2003.

Issued in Los Alamos on February 14, 2003.
Ralph E. Erickson,
Manager, U. S. Department of Energy, National Nuclear Security Administration, Los Alamos Site Office.

[FR Doc. 03-4607 Filed 2-26-03; 8:45 am]

BILLING CODE 6450-01-P